DEPARTMENT OF HEALTH AND HUMAN SERVICES

National Institutes of Health

National Cancer Institute Amended; Notice of Meeting

Notice is hereby given of a change in the meeting of the National Cancer Institute Special Emphasis Panel, November 2, 2017, 9:00 a.m. to November 2, 2017, 7:00 p.m., National Cancer Institute Shady Grove, 9609 Medical Center Drive, Rockville, MD 20850 which was published in the Federal Register on September 22, 2017, 82 FR 44429.

This meeting notice is amended to change the meeting date from November 2, 2017 to December 7, 2017. The meeting is closed to the public.

Dated: October 10, 2017.
Melanie J. Pantoja,
Program Analyst, Office of Federal Advisory Committee Policy.

[FR Doc. 2017-22245 Filed 10-13-17; 8:45 am]

BILLING CODE 4140-01-P